DEPARTMENT OF HEALTH AND HUMAN SERVICES

Office of the Secretary

Findings of Research Misconduct

AGENCY: Office of the Secretary, HHS

ACTION: Notice.

SUMMARY: Findings of research misconduct have been made against Uthra Rajamani, Ph.D. (Respondent), former project scientist in the Induced Pluripotent Stem Cell Core Facility, Cedars-Sinai Medical Center (CSMC). Dr. Rajamani engaged in research misconduct in research supported by National Center for Advancing Translational Science (NCATS), National Institutes of Health (NIH), grant UL1 TR000124. The administrative actions, including supervision for a period of one (1) year, were implemented beginning on November 27, 2018, and are detailed below.

FOR FURTHER INFORMATION CONTACT: Wanda K. Jones, Dr.P.H., Interim Director, Office of Research Integrity, 1101 Wootton Parkway, Suite 750, Rockville, MD 20852, (240) 453-8200.

SUPPLEMENTARY INFORMATION: Notice is hereby given that the Office of Research Integrity (ORI) has taken final action in the following case:

Uthra Rajamani, Ph.D., Cedars-Sinai Medical Center: Based on the report of an inquiry conducted by CSMC, the Respondent's admission, and additional analysis conducted by ORI in its oversight review, ORI found that Dr. Uthra Rajamani, former project scientist in the Induced Pluripotent Stem Cell Core Facility, CSMC, engaged in research misconduct in research supported by NCATS, NIH, grant UL1 TR000124.

ORI found that Respondent engaged in research misconduct by falsifying data that were included in the following paper: Nature Communications 8(219):1-15, 2017 (hereafter referred to as “Nature Communications 2017”).

ORI found that Respondent knowingly and intentionally falsified western blot images in Nature Communications 2017 by using the same western blot panel to represent the expression of different proteins from whole cell lysates exposed to different endocrine disrupting chemical (EDC) treatments. Specifically, Respondent:

• Digitally altered the original image to darken the western blot panel for COX IV expression in Figure 4b in Nature Communications 2017 and represented the blot as the expression of:

—pNF-kB p65 Figure 4b in Nature Communications 2017

—NF-kB p65 Figure 4b in Nature Communications 2017

—p50 Figure 4b in Nature Communications 2017

—p105 Figure 4b in Nature Communications 2017

—p100 Figure 4b Nature Communications 2017

• Digitally altered the original image by superimposing a darker band over the original bands in lanes 2 and 4 of the western blot panel for COX IV expression in whole cell lysates exposed to different endocrine disrupting chemical (EDC) treatments in Figure 4b in Nature Communications 2017 and represented the falsified blot in Figure 6a in Nature Communications 2017 as expression of:

— P-p65 Figure 6a in Nature Communications 2017

— p50 Figure 6a in Nature Communications 2017

— p105 Figure 6a in Nature Communications 2017

— p52 Figure 6a in Nature Communications 2017

• Reused and relabeled the blot from Figure 3d in Cell Stem Cell 22:698-712, 2018 to falsely represent BiP expression under different experimental conditions in Figure 3d in Nature Communications 2017.

As a result of its inquiry, CSMC recommended that Nature Communications 2017 be retracted.

Dr. Rajamani entered into a Voluntary Settlement Agreement (Agreement) and voluntarily agreed:

(1) To have her research supervised for a period of one (1) year beginning on November 27, 2018; Respondent agrees that prior to submission of an application for U.S. Public Health Service (PHS) support for a research project on which Respondent's participation is proposed and prior to Respondent's participation in any capacity on PHS-supported research, Respondent shall ensure that a plan for supervision of Respondent's duties is submitted to ORI for approval; the supervision plan must be designed to ensure the scientific integrity of Respondent's research contribution; Respondent agrees that she shall not participate in any PHS-supported research until such a supervision plan is submitted to and approved by ORI; Respondent agrees to maintain responsibility for compliance with the agreed upon supervision plan;

(2) that for a period of one (1) year beginning on November 27, 2018, any institution employing her shall submit, in conjunction with each application for PHS funds, or report, manuscript, or abstract involving PHS-supported research in which Respondent is involved, a certification to ORI that the data provided by Respondent are based on actual experiments or are otherwise legitimately derived and that the data, procedures, and methodology are accurately reported in the application, report, manuscript, or abstract;

(3) that if no supervisory plan is provided to ORI, Respondent will provide certification to ORI at the conclusion of the supervision period that she has not engaged in, applied for, or had her name included on any application, proposal, or other request for PHS funds without prior notification to ORI;

(4) to exclude herself from serving in any advisory capacity to PHS including, but not limited to, service on any PHS advisory committee, board, and/or peer review committee, or as a consultant for a period of one (1) year beginning on November 27, 2018; and

(5) that as a condition of the Agreement, Respondent will request that Nature Communications 8(219):1-15, 2017 be retracted.

Wanda K. Jones,
Interim Director, Office of Research Integrity.

[FR Doc. 2018-27874 Filed 12-21-18; 8:45 am]

BILLING CODE 4150-31-P